ENVIRONMENTAL PROTECTION AGENCY

[EPA-HQ-OW-2015-0667; FRL-9939-56-OW]

Extension of Public Comment Period for the National Wetland Condition Assessment 2011 Draft Report

AGENCY: Environmental Protection Agency (EPA).

ACTION: Notice; extension of comment period.

SUMMARY: The Environmental Protection Agency (EPA) is extending the comment period for the draft report on the National Wetland Condition Assessment (NWCA 2011). In response to stakeholder requests, the comment period will be extended for an additional 30 days, from December 7, 2015 until January 6, 2016.

DATES: Comments must be received on or before January 6, 2016.

ADDRESSES: Submit your comments, identified by Docket ID No. EPA-HQ-OW-2015-0667, to the Federal eRulemaking Portal: http://www.regulations.gov. Follow the online instructions for submitting comments. Once submitted, comments cannot be edited or withdrawn. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

FOR FURTHER INFORMATION CONTACT: Gregg Serenbetz, Wetlands Division, Office of Water (4502T), Environmental Protection Agency, 1200 Pennsylvania Avenue NW., Washington, DC 20460; telephone number: 202-566-1253; email address: serenbetz.gregg@epa.gov.

SUPPLEMENTARY INFORMATION: On November 5, 2015, EPA announced the availability of the draft report, National Wetland Condition Assessment 2011: A Collaborative Survey of the Nation's Wetlands, and opened a 30-day public review and comment period to seek comment on the information contained in the draft report, the reasonableness of the conclusions, and the clarity with which the information is presented.

The original deadline to submit comments on the draft report was December 7, 2015. This action extends the comment period for 30 days. Written comments must now be received by January 6, 2016. The draft report and other supporting materials may also be viewed and downloaded from EPA's Web site at http://www2.epa.gov/national-aquatic-resource-surveys/national-wetland-condition-assessment.

Dated: November 24, 2015.
Benita Best-Wong,
Director, Office of Wetlands, Oceans, and Watersheds.

[FR Doc. 2015-30505 Filed 11-30-15; 8:45 am]

BILLING CODE 6560-50-P